ENVIRONMENTAL PROTECTION AGENCY

[EPA-HQ-OPP-2009-0889; FRL-8811-9]

Policy Paper on Revised Risk Assessment Methods for Workers, Children of Workers in Agricultural Fields, and Pesticides with No Food Uses; Extension of Comment Period

AGENCY: Environmental Protection Agency (EPA).

ACTION: Notice; extension of comment period.

SUMMARY: EPA issued a notice in the Federal Register of December 9, 2009, making available for comment a policy paper entitled “Revised Risk Assessment Methods for Workers, Children of Workers in Agricultural Fields, and Pesticides with No Food Uses,” that describes how the Agency plans to use revised methods in conducting risk assessments for pesticide uses and exposures not governed by the Federal Food, Drug, and Cosmetic Act (FFDCA). Implementing this policy will increase protections, especially for agricultural workers and children of workers in agricultural fields. The December 9, 2009 notice announced the availability of the policy paper and opened a public comment period of 60 days (until February 8, 2010). Today's notice extends the comment period for an additional 60 days, from February 8, 2010, to April 12, 2010.

DATES: Comments, identified by docket identification (ID) number EPA-HQ-OPP-2009-0889, must be received on or before April 12, 2010.

ADDRESSES: Follow the detailed instructions as provided under ADDRESSES in the Federal Register document of December 9, 2009.

FOR FURTHER INFORMATION CONTACT: Deborah Smegal, Health Effects Division, Office of Pesticide Programs, Environmental Protection Agency, 1200 Pennsylvania Ave., NW., Washington, DC 20460-0001; telephone number: (703) 308-0175; e-mail address: smegal.deborah@epa.gov.

SUPPLEMENTARY INFORMATION: This document extends the public comment period established in the Federal Register of December 9, 2009 (74 FR 65121) (FRL-8803-2). In that document, a comment period of 60 days was established. Subsequent to publication, a number of stakeholders requested the extension of the original comment period, citing the far-reaching implications of the policy and its relationship to several other key Agency initiatives that are currently under development and available for comment. EPA is hereby extending the comment period, which was set to end on February 8, 2010, to April 12, 2010.

To submit comments, or access the docket, please follow the detailed instructions as provided under ADDRESSES in the December 9, 2009 Federal Register document. If you have questions, consult the person listed under FOR FURTHER INFORMATION CONTACT.

List of Subjects

Environmental protection, Pesticides and pests.

Dated: January 29, 2010.
Steven Bradbury,
Director, Office of Pesticide Programs.

[FR Doc. 2010-2400 Filed 2-4-10; 8:45 am]

BILLING CODE 6560-50-S